DEPARTMENT OF AGRICULTURE

Rural Utilities Service

Old Dominion Electric Cooperative; Notice of Intent

AGENCY: Rural Utilities Service, USDA.

ACTION: Notice of intent to prepare an environmental assessment.

SUMMARY: Notice is hereby given that the Rural Utilities Service (RUS), pursuant to the National Environmental Policy Act of 1969 (42 U.S.C. 4321 et seq.), the Council on Environmental Quality Regulations for Implementing the National Environmental Policy Act (40 CFR parts 1500-1508), and the RUS' Environmental Policies and Procedures (7 CFR part 1794) proposes to prepare an Environmental Assessment for possibly granting financial assistance to Old Dominion Electric Cooperative (Old Dominion) to construct a 510 megawatt, natural gas-fired combustion turbine electric generation plant in Cecil County, Maryland.

FOR FURTHER INFORMATION CONTACT: Bob Quigel, Engineering and Environmental Staff, Rural Utilities Service, at (202) 720-0468. Bob's E-mail address is: bquigel@rus.usda.gov.

SUPPLEMENTARY INFORMATION: Old Dominion proposes to construct the natural gas-fired electric generation plant in the community of Rock Springs, located in northwestern Cecil County, Maryland. The proposed plant site is at the intersection of Old Mill Road and U.S. Route 222.

The Old Dominion ownership portion of the project will consist of three natural gas-fired combustion turbine generation units with an output of 170 megawatts each. The entire plant layout will be designed and permitted to accommodate 6 combustion turbine units and would have a total output of 1,020 megawatts. The environmental impact has been described for 6 units. The entire plant will be situated on approximately 26 acres of the 93-acre site. No major natural gas pipeline or electric transmission line improvements will be needed at either location beyond the proposed site boundaries. A short electric transmission line span will be constructed on a 5-acre parcel owned by Old Dominion and is adjacent to the plant to tie the plant to an existing 500 kilovolt transmission line located southwest of Old Mill Road.

Alternatives considered by RUS and Old Dominion to constructing the generation facility as proposed include: (a) No action, (b) load management, (c) purchased power, (d) renewable energy, (e) a combined cycle combustion turbine plant, and (f) alternative site locations.

Old Dominion is preparing an environmental analysis to be submitted to RUS for review. RUS will use the environmental analysis to determine the significance of the impacts of the project and may adopt it as its environmental assessment of the project. RUS' environmental assessment of the project will be available for review and comment for 30 days. Notice of availability of the environmental assessment will be published in the Federal Register and in newspapers with a circulation in the project area. It is anticipated that the environmental assessment will be available in November or December of this year.

RUS will determine, based on the environmental assessment of the project, whether or not the impacts of the construction and operation of the plant poses a significant impact. Public notification of RUS' finding will be published in the Federal Register and in newspapers with a circulation in the project area.

Any final action related to the proposed project will be subject to, and contingent upon, compliance with environmental review requirements prescribed by the Council on Environmental Quality and the Rural Utilities Service's regulations.

Dated: November 17, 2000.
Mark S. Plank,
Acting Director, Engineering and Environmental Staff.

[FR Doc. 00-30096 Filed 11-24-00; 8:45 am]

BILLING CODE 3410-15-P